ENVIRONMENTAL PROTECTION AGENCY

[EPA-HQ-OW-2019-0566; FRL-10005-90-OMS]

Information Collection Request Submitted to OMB for Review and Approval; Comment Request; Water Quality Certification Regulations (Renewal)

AGENCY: Environmental Protection Agency (EPA).

ACTION: Notice.

SUMMARY: The Environmental Protection Agency (EPA) has submitted an information collection request (ICR), Water Quality Certification Regulations (EPA ICR No. 2603.03, OMB Control No. 2040-0295) to the Office of Management and Budget (OMB) for review and approval in accordance with the Paperwork Reduction Act (PRA). This is a proposed revision of an ICR, which is currently approved through February 29, 2020. Public comments were previously requested via the Federal Register on November 27, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 30, 2020.

ADDRESSES: Submit your comments, referencing Docket ID Number EPA-HQ-OW-2019-0566, to (1) EPA online using www.regulations.gov (our preferred method), or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lauren Kasparek, Oceans, Wetlands, and Communities Division, Office of Wetlands, Oceans, and Watersheds, (MC 4504T), Environmental Protection Agency, 1200 Pennsylvania Ave. NW, Washington, DC 20460; telephone number: (202) 564-3351; email address: cwa401@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR describes the cost and burden associated with 40 CFR 121, the regulations that implement Clean Water Act (CWA) section 401. Under section 401, a federal agency may not issue a permit or license that may result in any discharge into waters of the United States unless the certifying authority where the discharge would originate issues a section 401 water quality certification verifying that the discharge will comply with certain water quality requirements or waives the certification requirement. CWA section 401 requires project proponents to submit project specific information to certifying authorities. Certifying authorities may act on project specific information by either granting, granting with conditions, denying, or waiving section 401 certification. CWA section 401 requires certifying authorities to submit information to the relevant federal licensing or permitting agency to indicate the action taken on a request for certification. If the certifying authority fails or refuses to act on a request for certification, within a reasonable period of time (which shall not exceed one year) after receipt of such request, the certification requirements of this subsection shall be waived with respect to such Federal application. The EPA is also responsible for providing notification to certain neighboring or downstream states and tribes affected by a discharge from a federally licensed or permitted project under section 401(a)(2). Information collected directly collected by the EPA under section 401 in support of the section 402 permit program is already captured under an existing ICR (OMB Control Number 2040-0004, EPA ICR Number 0229.23) and therefore is not included in this analysis.

Form Numbers: None.

Respondents/affected entities: Applicants (Project Proponents) for certain federal licenses and permits; Certifying Authorities including states, territories, and authorized tribes.

Respondent's obligation to respond: Project Proponents: Required to obtain or retain a benefit (33 U.S.C. 1341). Certifying Authorities: Not mandatory.

Estimated number of respondents: 97,119 (total).

Frequency of response: Per Federal Application.

Total estimated burden: 1,067,000 hours (per year). Burden is defined at 5 CFR 1320.03(b).

Total estimated cost: $64 million (per year), includes $8 million annualized capital or operation & maintenance costs.

Changes in the Estimates: There is an increase of 739,000 hours in the total estimated respondent burden compared with the ICR currently approved by OMB. There is an increase in the total estimated respondent burden, number of respondents, and number of responses compared with the ICR currently approved by OMB due to refinements in how the estimates are calculated. See the Supporting Statement in the docket for more information on the changes in estimates.

Courtney Kerwin,
Director, Regulatory Support Division.

[FR Doc. 2020-04063 Filed 2-27-20; 8:45 am]

BILLING CODE 6560-50-P